DEPARTMENT OF TRANSPORTATION

Coast Guard

[USCG-2003-14214]

Chemical Transportation Advisory Committee

AGENCY: Coast Guard, DOT.

ACTION: Notice of meeting.

SUMMARY: The Subcommittee of the Chemical Transportation Advisory Committee (CTAC) on Hazardous Cargo Security will meet to discuss security issues as they relate to the marine transportation of chemicals. This meeting will be open to the public.

DATES: The Subcommittee will meet on Tuesday, February 11, 2003, from 1 p.m. to 4 p.m., Wednesday, February 12, 2003, from 8 a.m. to 4 p.m., and Thursday, February 13, 2003, from 8 a.m. to 4 p.m. This 3-day meeting may close early if all business is finished. Written material and requests to make oral presentations should reach the Coast Guard on or before February 3, 2003. Requests to have a copy of your material distributed to each member of the Subcommittee should reach the Coast Guard on or before February 3, 2003.

ADDRESSES: The Subcommittee will meet at American Commercial Barge Line (ACBL) Company, 1701 E. Market St., Jeffersonville, Indiana. Send written material and requests to make oral presentations to Lieutenant Richard Teubner, Coast Guard Technical Representative for the Subcommittee, Commandant (G-MPS-2), U.S. Coast Guard Headquarters, 2100 Second Street SW., Washington, DC 20593-0001. This notice is available on the Internet at http://dms.dot.gov.

FOR FURTHER INFORMATION CONTACT: Lieutenant Richard Teubner, the Coast Guard Technical Representative for the Subcommittee, telephone 202-267-4129, fax 202-267-4130.

SUPPLEMENTARY INFORMATION: Notice of this meeting is given under the Federal Advisory Committee Act, 5 U.S.C. App. 2.

Agenda of Meeting

The agenda of the 3-day meeting of the CTAC Subcommittee on Hazardous Cargo Security includes the following:

(1) Introduce subcommittee members and attendees.

(2) Review subcommittee tasking and desired outcome.

(3) Discuss hazardous cargo list created for security regulations.

(4) Discuss security regulatory developments including time frames, content, and application.

(5) Discuss notification guidelines.

Procedural

This meeting is open to the public. Please note that the meeting may close early if all business is finished. At the discretion of the Subcommittee Chair, members of the public may make oral presentations during the meeting. If you would like to make an oral presentation at the meeting, please notify the Coast Guard Technical Representative for the Subcommittee and submit written material on or before February 3, 2003. If you would like a copy of your material distributed to each member of the Subcommittee in advance of the meeting, please submit 25 copies to the Coast Guard Technical Representative for the Subcommittee no later than February 3, 2003.

Information on Services for Individuals With Disabilities

For information on facilities or services for individuals with disabilities, or to request special assistance at the meeting, contact the Coast Guard Technical Representative for the Subcommittee as soon as possible.

Dated: January 8, 2003.
J.G. Lantz,
Acting Director of Standards, Marine Safety, Security and Environmental Protection.

[FR Doc. 03-1284 Filed 1-21-03; 8:45 am]

BILLING CODE 4910-15-P